DEPARTMENT OF TRANSPORTATION

Surface Transportation Board

[Docket No. FD 35462]

Union Pacific Railroad Company—Trackage Rights Exemption—California Northern Railroad Co.

Pursuant to a written trackage rights agreement dated July 1, 2010, California Northern Railroad Co. (CFNR) has agreed to grant overhead trackage rights to Union Pacific Railroad Company (UP) over approximately 1.8 miles of rail line between milepost 83.0 (Tracy, Cal.) and milepost 84.8 (Lyoth, Cal.), on CFNR's Los Banos Subdivision.

The transaction may be consummated on or after February 24, 2011, the effective date of the exemption (30 days after the exemption was filed).

The purpose of the transaction is to enable UP to move trains between its Oakland, Cal., Subdivision and its Tracy Industrial Lead.

As a condition to this exemption, any employees affected by the trackage rights will be protected by the conditions imposed in Norfolk and Western Railway—Trackage Rights—Burlington Northern, Inc., 354 I.C.C. 605 (1978), as modified in Mendocino Coast Railway, Inc.—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by February 17, 2011 (at least 7 days before the exemption becomes effective). An original and 10 copies of all pleadings, referring to Docket No. FD 35462, must be filed with the Surface Transportation Board, 395 E Street, SW., Washington, DC 20423-0001. In addition, a copy of each pleading must be served on Elisa Davies, 1400 Douglas St., STOP 1580, Omaha, NE 68179.

Board decisions and notices are available on our Web site at http://www.stb.dot.gov.

Decided: February 8, 2011.
By the Board.
Rachel D. Campbell,
Director, Office of Proceedings.
Andrea Pope-Matheson,
Clearance Clerk.

[FR Doc. 2011-3090 Filed 2-10-11; 8:45 am]

BILLING CODE 4915-01-P